DEPARTMENT OF JUSTICE

Antitrust Division

Notice Pursuant to the National Cooperative Research and Production Act of 1993—Sequence VID Test Development Consortium

Notice is hereby given that, on August 4, 2006, pursuant to Section 6(a) of the National Cooperative Research and Production Act of 1993, 15 U.S.C. 4301 et seq. (“the Act”), Sequence VID Test Development Consortium has filed written notifications simultaneously with the Attorney General and the Federal Trade Commission disclosing (1) The identities of the parties to the venture and (2) the nature and objectives of the venture. The notifications were filed for the purpose of extending the Act's provisions limiting the recovery of antitrust plaintiffs to actual damages under specified circumstances.

Pursuant to Section 6(b) of the Act, the identities of the parties to the venture are: American Petroleum Institute, Washington, DC; General Motors Corp., Warren, MI; Chevron Products Co., Richmond, CA; Ford Motor Company, Dearborn, MI; Lubrizol Corporation, Wickliffe, OH; Chevron Oronite Company LLC, Richmond, CA; Shell Oil Company, Houston, TX; ExxonMobil Research & Engineering Corporation, Paulsboro, NJ; Infineum International, Ltd., Linden, NJ; Afton Chemical Corporation, Richmond, VA; and R.T. Vanderbilt Co., Inc., Norwalk, CT. The general area of Sequence VID Test Development Consortium's planned activity is to develop an engine dynamometer-based fuel economy test for ILSAC GF-5 that will represent the viscometric and friction modifier oil effects on the fuel economy of current and future North American and Japanese engines.

Patricia A. Brink,
Deputy Director of Operations, Antitrust Division.

[FR Doc. 06-7519 Filed 9-7-06; 8:45 am]

BILLING CODE 4410-11-M